INTERNATIONAL TRADE COMMISSION

[Investigation No. TA-2104-15]

U.S.-Bahrain Free Trade Agreement: Potential Economywide and Selected Sectoral Effects

AGENCY: International Trade Commission.

ACTION: Institution of investigation and scheduling of public hearing.

SUMMARY: Following receipt on June 28, 2004 of a request from the United States Trade Representative (USTR), the Commission instituted investigation No. TA-2104-15, U.S.-Bahrain Free Trade Agreement: Potential Economywide and Selected Sectoral Effects, under section 2104(f) of the Trade Act of 2002 (19 U.S.C. 3804(f)).

Background: As requested by the USTR, the Commission will prepare a report as specified in section 2104(f)(2)-(3) of the Trade Act of 2002 assessing the likely impact of the U.S. Free Trade agreement with Bahrain on the United States economy as a whole and on specific industry sectors and the interests of U.S. consumers. The report will assess the likely impact of the agreement on the United States economy as a whole and on specific industry sectors, including the impact the agreement will have on the gross domestic product, exports and imports, aggregate employment and employment opportunities, the production, employment, and competitive position of industries likely to be significantly affected by the agreement, and the interests of United States consumers. In preparing its assessment, the Commission will review available economic assessments regarding the agreement, including literature regarding any substantially equivalent proposed agreement, and will provide in its assessment a description of the analyses used and conclusions drawn in such literature, and a discussion of areas of consensus and divergence between the various analyses and conclusions, including those of the Commission regarding the agreement.

Section 2104(f)(2) requires that the Commission submit its report to the President and the Congress not later than 90 days after the President enters into the agreement, which he can do 90 days after he notifies the Congress of his intent to do so. The President notified the Congress on June 15, 2004, of his intent to enter into an FTA with Bahrain.

The Commission has begun its assessment, and it will seek public input for the investigation through a public hearing on August 10, 2004 (see below).

DATES: Effective July 26, 2004.

FOR FURTHER INFORMATION CONTACT: Project Leaders, Thomas Jennings, (202-205-3260) or Walker Pollard (202-205-3228), Office of Economics. For information on the legal aspects of this investigation, contact William Gearhart of the Office of the General Counsel (202-205-3091 or william.gearhart@usitc.gov). For media information, contact Peg O'Laughlin (202-205-1819). Hearing impaired individuals are advised that information on this matter can be obtained by contacting the TDD terminal on (202-205-1810).

Public Hearing: A public hearing in connection with this investigation is scheduled to begin at 9:30 a.m. on August 10, 2004, at the U.S. International Trade Commission Building, 500 E Street SW., Washington, DC. Requests to appear at the public hearing should be filed with the Secretary, no later than 5:15 p.m., August 3, 2004 in accordance with the requirements in the “Submissions” section below. In the event that, as of the close of business on August 3, 2004, no witnesses are scheduled to appear at the hearing, the hearing will be canceled. Any person interested in attending the hearing as an observer or non-participant may call the Secretary (202-205-2000) after August 5, 2004, to determine whether the hearing will be held.

Statements and Briefs: In lieu of or in addition to participating in the hearing, interested parties are invited to submit written statements or briefs concerning the investigation in accordance with the requirements in the “Submissions” section below. Any prehearing briefs or statements should be filed not later than 5:15 p.m., August 3, 2004; the deadline for filing post-hearing briefs or statements is 5:15 p.m., August 17, 2004.

Submissions: All written submissions including requests to appear at the hearing, statements, and briefs, should be addressed to the Secretary, United States International Trade Commission, 500 E Street SW., Washington, DC 20436. All written submissions must conform with the provisions of section 201.8 of the Commission's Rules of Practice and Procedure (19 CFR 201.8); any submission that contains confidential business information must also conform with the requirements of section 201.6 of the Commission's Rules of Practice and Procedure (19 CFR 201.6). Section 201.8 of the rules requires that a signed original (or a copy designated as an original) and fourteen (14) copies of each document be filed. In the event that confidential treatment of the document is requested, at least four (4) additional copies must be filed, in which the confidential information must be deleted. Section 201.6 of the rules requires that the cover of the document and the individual pages be marked clearly as to whether they are the “confidential” or “nonconfidential” version, and that the confidential business information be clearly identified by means of brackets.

The Commission intends to prepare only a public report in this investigation. The report that the Commission sends to the President and the Congress and makes available to the public will not contain confidential business information. Any confidential business information received by the Commission in this investigation and used in preparing the report will not be published in a manner that would reveal the operations of the firm supplying the information.

The Commission's rules do not authorize filing submissions with the Secretary by facsimile or electronic means, except to the extent permitted by section 201.8 of the Commission's Rules (19 CFR 201.8)(see Handbook for Electronic Filing Procedures, ftp://ftp.usitc.gov/pub/reports/electronic_filing_handbook.pdf). Persons with questions regarding electronic filing should contact the Secretary (202-205-2000 or edis@usitc.gov).

Issued: July 26, 2004.
By order of the Commission.
Marilyn R. Abbott,
Secretary to the Commission.

[FR Doc. 04-17326 Filed 7-27-04; 8:45 am]

BILLING CODE 7020-02-P